DEPARTMENT OF HOMELAND SECURITY

Coast Guard

33 CFR Part 100

[Docket No. CGD05-07-084]

Special Local Regulations for Marine Events; Sunset Lake, Wildwood Crest, NJ

AGENCY: Coast Guard, DHS.

ACTION: Notice of enforcement of regulation.

SUMMARY: The Coast Guard will enforce special local regulations for the Sunset Lake Hydrofest on Sunset Lake from 8:30 a.m. September 29, 2007 through 5:30 p.m. September 30, 2007. This action is necessary to provide for the safety of life on navigable waters during the event. During the enforcement period, vessel traffic will be restricted in portions of Sunset Lake during the event.

DATES: The regulations in 33 CFR 100.536 will be enforced from 8:30 a.m. September 29, 2007 through 5:30 p.m. September 30, 2007.

FOR FURTHER INFORMATION CONTACT: Dennis Sens, Regulatory project manager, Inspections and Investigations Branch, at (757) 398-6204.

SUPPLEMENTARY INFORMATION: Under 5 U.S.C. 553(d)(3), the Coast Guard finds that good cause exists for giving notice of the enforcement date less than 30 days before the enforcement period goes into effect. Delaying notice of the enforcement date would be contrary to the public interest, since immediate action is needed to ensure the safety of the event participants, support vessels, spectator craft and other vessels transiting the event area. However advance notification of this recurring event is being given to users of Sunset Lake via marine information broadcasts, local notice to mariners, commercial radio stations and area newspapers.

The Coast Guard will enforce the special local regulations for the annual Sunset Lake Hydrofest on Sunset Lake, New Jersey in 33 CFR 100.536 from 8:30 a.m. on September 29, 2007, through 5:30 p.m. September 30, 2007. Annually, the Sunset Lake Hydrofest Association sponsors this event on the waters of Sunset Lake near Wildwood Crest, New Jersey. The event consists of approximately 100 inboard hydroplanes, Jersey speed skiffs and flat-bottom ski boats racing in heats counter-clockwise around an oval racecourse.

Under the provisions of 33 CFR 100.536, except for event participants and persons or vessels authorized by the Coast Guard Patrol Commander, no person or vessel may enter or remain in the regulated area. Additionally, when authorized by the Patrol Commander to transit the regulated area, all vessels shall proceed at the minimum speed necessary to maintain a safe course that minimizes wake near the race course.

This notice is issued under authority of 33 CFR 100.536 and 5 U.S.C. 552(a). In addition to this notice in the Federal Register, the Coast Guard will provide the maritime community with extensive advance notification of this enforcement via the Local Notice to Mariners, marine information broadcasts, local radio stations and area newspapers.

Dated: September 11, 2007.
Neil O. Buschman,
Captain, U.S. Coast Guard, Commander, Fifth Coast Guard District, Acting.

[FR Doc. E7-18354 Filed 9-17-07; 8:45 am]

BILLING CODE 4910-15-P